FEDERAL MARITIME COMMISSION

[Docket No. 98-14]

Shipping Restrictions, Requirements and Practices of the People's Republic of China

July 17, 2002.

AGENCY: Federal Maritime Commission.

ACTION: Notice.

SUMMARY: The Federal Maritime Commission updates a Further Notice of Inquiry, to reflect a recent extension of deadline for comments by the Ministry of Communications of the People's Republic of China.

DATE: July 22, 2002.

FOR FURTHER INFORMATION CONTACT: David R. Miles, Acting General Counsel, Federal Maritime Commission, 800 North Capitol Street, NW., Washington, DC 20573-0001, (202) 523-5740.

SUPPLEMENTARY INFORMATION: On June 28, 2002, the Federal Maritime Commission (“FMC” or “Commission”) issued a Further Notice of Inquiry (“FNOI”) soliciting comments with respect to proposed implementing rules of the Ministry of Communications (“MOC”) of the People's Republic of China (“PRC”). 67 FR 44843-44 (July 5, 2002). The FNOI referred to MOC's request for comments as having a deadline for comments of July 15, 2002. However, MOC announced on its official website (http://www.moc.gov.cn) on July 16, 2002, that it had extended this deadline, and that it would receive comments on the proposed rules until July 31, 2002.

In light of the fact that the Commission's FNOI referred to the MOC's original deadline of July 15, 2002, it now wishes to notify the shipping public that this deadline should be updated to reflect the revised MOC deadline, which is July 31, 2002.

Now therefore, it is ordered, that this Notice be published in the Federal Register.

By the Commission.
Theodore A. Zook,
Assistant Secretary.

[FR Doc. 02-18379 Filed 7-19-02; 8:45 am]

BILLING CODE 6730-01-P